DEPARTMENT OF TRANSPORTATION

Federal Highway Administration

South Mountain Freeway Project FEIS Comment Consideration

AGENCY: Federal Highway Administration (FHWA), Department of Transportation (DOT).

ACTION: Notice.

SUMMARY: The FHWA is issuing this notice of omission to advise the public that 10 comments submitted by email during the comment period for the South Mountain Freeway (Loop 202) Interstate 10 (Papago Freeway) to Interstate 10 (Maricopa Freeway) Draft Environmental Impact Statement and Section 4(f) Evaluation were inadvertently omitted from the South Mountain Freeway (Loop 202) Interstate 10 (Papago Freeway) to Interstate 10 (Maricopa Freeway) Final Environmental Impact Statement and Section 4(f) Evaluation.

FOR FURTHER INFORMATION CONTACT: Alan Hansen, Federal Highway Administration, 4000 North Central Avenue, Suite 1500, Phoenix, AZ 85012; (602) 382-8964.

SUPPLEMENTARY INFORMATION: On September 26, 2014, at 79 FR 57929, FHWA published a notice of availability for its Final Environmental Impact Statement (FEIS) and Section 4(f) Evaluation for the South Mountain Freeway (Loop 202) Interstate 10 (Papago Freeway) to Interstate 10 (Maricopa Freeway) project. On October 21, 2014, the Arizona Department of Transportation (ADOT) was contacted by a stakeholder organization and told that the comments they submitted on the Draft Environmental Impact Statement were not included in the FEIS. The ADOT examined this concern and found that the comments, submitted through email, had been received, but were never brought to the attention of the project team. The ADOT conducted a thorough search of the entire email system and found that 10 email comments had been inadvertently omitted from the FEIS. The omitted comments consist of the email from the stakeholder organization and 9 emails from other interested parties.

Based on this, FHWA, in conjunction with ADOT, has published this omission notice in the Federal Register and will prepare an Errata to the FEIS including responses to the 10 omitted comments, will publish a notice of availability for the Errata to the FEIS in the Federal Register, and will provide a 30-day review period for the Errata to the FEIS.

All interested parties who received project communications, including notice of the FEIS availability, will receive the notice of omission and notice of availability of the Errata to the FEIS. The Errata to the FEIS will also be available on the project Web site with the FEIS at www.azdot.gov/southmountainfreeway.

Issued on: October 31, 2014.
Karla S. Petty,
Arizona Division Administrator, Federal Highway Administration, Phoenix, AZ.

[FR Doc. 2014-26533 Filed 11-6-14; 8:45 am]

BILLING CODE 4910-22-P